DEPARTMENT OF HEALTH AND HUMAN SERVICES

Centers for Disease Control and Prevention

National Center for Environmental Health/Agency for Toxic Substances and Disease Registry

The Community and Tribal Subcommittee of the Board of Scientific Counselors (BSC), Centers for Disease Control and Prevention (CDC), National Center for Environmental Health (NCEH)/Agency for Toxic Substances and Disease Registry (ATSDR): Meeting.

In accordance with section 10(a)(2) of the Federal Advisory Committee Act (Pub. L. 92-463), the Centers for Disease Control and Prevention, NCEH/ATSDR announces the following meeting of the aforementioned subcommittee:

Time and Date: 8:30 a.m.-4:30 p.m., May 16, 2007.

Place: Century Center, 1825 Century Boulevard, Atlanta, Georgia 30345.

Status: Open to the public, limited by the available space. The meeting room accommodates approximately 40 people.

Purpose: Under the charge of the BSC, NCEH/ATSDR the CTS will provide the BSC, NCEH/ATSDR with a forum for community and tribal firsthand perspectives on the interactions and impacts of the NCEH/ATSDR's national and regional policies, practices and programs.

Matters To Be Discussed: The meeting agenda will include an update on NCEH/ATSDR Environmental Justice Web site development, a discussion on the Center's Environmental Justice oriented inventory, a review and selection of projects for further discussion, and an update on the Office of Tribal Affairs.

Items are subject to change as priorities dictate.

SUPPLEMENTARY INFORMATION: This meeting is scheduled to begin at 8:30 a.m. Eastern Daylight Saving Time. To participate, please dial 877/315-6535 and enter conference code 383520. Public comment period is scheduled for 1:30 p.m.-1:45 p.m.

Contact Person for More Information: Sandra Malcom, Committee Management Specialist, NCEH/ATSDR, 1600 Clifton Road, Mail Stop E-28, Atlanta, GA 30303, telephone: 404/498-0003, fax: 404/498-0059, E-mail: smalcom@cdc.gov. The deadline for notification of attendance is May 2, 2007.

The Director, Management Analysis and Services Office, has been delegated the authority to sign Federal Register notices pertaining to announcements of meetings and other committee management activities for both CDC and the Agency for Toxic Substances and Disease Registry.

Dated: April 9, 2007.
Elaine L. Baker,
Acting Director, Management Analysis and Services Office, Centers for Disease Control and Prevention.

[FR Doc. E7-7188 Filed 4-13-07; 8:45 am]

BILLING CODE 4163-18-P